DEPARTMENT OF TRANSPORTATION

National Highway Traffic Safety Administration

49 CFR Parts 571 and 585

[Docket No. NHTSA-2016-0125]

RIN 2127-AK93

Federal Motor Vehicle Safety Standards; Minimum Sound Requirements for Hybrid and Electric Vehicles

AGENCY: National Highway Traffic Safety Administration (NHTSA), Department of Transportation (DOT).

ACTION: Final rule; delay of effective date.

SUMMARY: This action temporarily delays for 36 days the effective date of the rule entitled “Federal Motor Vehicle Safety Standards; Minimum Sound Requirements for Hybrid and Electric Vehicles,” published in the Federal Register on December 14, 2016.

DATES: The effective date of the final rule published at 81 FR 90416, December 14, 2016, is delayed until March 21, 2017.

FOR FURTHER INFORMATION CONTACT: For legal issues, contact Tom Healy, Office of Chief Counsel, at (202) 366-2992. For non-legal issues, contact Mike Pyne, Office of Vehicle Safety Compliance, at (202) 366-4171.

SUPPLEMENTARY INFORMATION: In accordance with the memorandum of January 20, 2017, from the Assistant to the President and Chief of Staff, entitled “Regulatory Freeze Pending Review,” ¹ this action temporarily delays for 36 days ² the effective date of the rule entitled “Federal Motor Vehicle Safety Standards; Minimum Sound Requirements for Hybrid and Electric Vehicles,” published in the Federal Register on December 14, 2016, at 81 FR 90416. That rule satisfied the mandate in the Pedestrian Safety Enhancement Act (PSEA) of 2010 by establishing a new Federal motor vehicle safety standards (FMVSS) setting minimum sound requirements for hybrid and electric vehicles. This new standard requires hybrid and electric passenger cars, light trucks and vans, and low speed vehicles to produce sounds meeting the requirements of this standard, and applies to electric vehicles and those hybrid vehicles that are capable of propulsion in any forward or reverse gear without the vehicle's internal combustion engine operating.

¹ Available at https://www.whitehouse.gov/the-press-office/2017/01/20/memorandum-heads-executive-departments-and-agencies (last accessed Jan. 24, 2017).

² The delay is 36 days because a delay of 60 days from the date of the “Freeze Memo” is March 21, 2016. The original effective date for the final rule was February 13, 2017.

To the extent that 5 U.S.C. 553 is applicable, this action is exempt from notice and comment because it constitutes a rule of procedure under 5 U.S.C. 553(b)(3)(A). Alternatively, NHTSA's implementation of this action without opportunity for public comment, effective immediately upon publication today in the Federal Register, is justified based on the good cause exceptions in 5 U.S.C. 553(b)(3)(B) and 553(d)(3). Seeking public comment is impracticable, unnecessary, and contrary to the public interest. The temporary 36-day delay in effective date is necessary to give Department officials the opportunity for further review and consideration of new regulations, consistent with the Assistant to the President's memorandum of January 20, 2017. Given the imminence of the effective date, seeking prior public comment on this temporary delay would have been impractical, as well as contrary to the public interest in the orderly promulgation and implementation of regulations. The imminence of effective date is also good cause for making this action effective immediately upon publication.

Authority: 49 U.S.C. 322, 30111, 30115, 30117, and 30166; delegation of authority at 49 CFR 1.95.

Issued on: February 1, 2017.
Jack Danielson,
Acting Deputy Administrator.

[FR Doc. 2017-02428 Filed 2-3-17; 8:45 am]

BILLING CODE 4910-59-P